FEDERAL COMMUNICATIONS COMMISSION

Technological Advisory Council Meeting

AGENCY: Federal Communications Commission.

ACTION: Notice of public meeting.

SUMMARY: In accordance with the Federal Advisory Committee Act, 5 U.S.C. App. 2, Public Law 92-463, as amended, this notice advises interested persons of the first meeting of the Technological Advisory Council (“Council”) to be held under its new charter, renewed December 11, 2000. The meeting will be held at the Federal Communications Commission in Washington, DC.

DATES: Wednesday, March 28, 2001, at 10:00 a.m.

ADDRESSES: Federal Communications Commission, 445 12th St. SW., Room TW-C305, Washington, DC 20554.

FOR FURTHER INFORMATION CONTACT: Kent Nilsson at knilsson@fcc.gov or 202-418-0845.

SUPPLEMENTARY INFORMATION: The Council was established by the Federal Communications Commission to provide a vehicle through which a diverse array of recognized experts in technologies that affect, or are affected by, telecommunications can provide timely advice to the FCC on trends in technological innovations that may affect the communications industry. The purpose of this meeting will be to determine the way to best achieve this goal. The Council may also consider such other issues as come before the Council at the meeting. Members of the general public may attend the meeting. The Federal Communications Commission will attempt to accommodate as many persons as possible. Admittance, however, will be limited to the seating available. Depending on the Council's progress at this meeting, public participation may be permitted at the discretion of the Council's Chairman. Interested persons may submit written comments to Kent Nilsson before the meeting either by e-mail (knilsson@fcc.gov) or by U.S. mail to Kent Nilsson, Special Counsel and Deputy Chief-Network Technology Division, Office of Engineering & Technology, U.S. Federal Communications Commission, 445 12th Street, SW., Washington, DC 20554.

Federal Communications Commission.
William F. Caton,
Deputy, Secretary.

[FR Doc. 01-5042 Filed 3-1-01; 8:45 am]

BILLING CODE 6712-01-U